DEPARTMENT OF COMMERCE

National Oceanic and Atmospheric Administration

50 CFR Part 622

[I.D. 091503E]

RIN 0648-AO63

Fisheries of the South Atlantic; Dolphin and Wahoo Fishery of the Atlantic; Fishery Management Plan

AGENCY: National Marine Fisheries Service (NMFS), National Oceanic and Atmospheric Administration (NOAA), Commerce.

ACTION: Notice of availability of a fishery management plan for the dolphin and wahoo fishery of the Atlantic (FMP); request for comments.

SUMMARY: The South Atlantic Fishery Management Council (SAFMC) has submitted the subject FMP for review, approval, and implementation by NMFS. If approved, the FMP would establish the management unit and stock status criteria for dolphin and wahoo, permitting and reporting requirements, restrictions on the harvest and sale of dolphin and wahoo, designations of essential fish habitat (EFH) and habitat areas of particular concern (HAPCs), and a framework procedure that would allow implementing certain regulations through an abbreviated rulemaking process.

DATES: Written comments must be received on or before November 25, 2003.

ADDRESSES: Comments on the FMP must be mailed to the Southeast Regional Office, NMFS, 9721 Executive Center Drive N., St. Petersburg, FL 33702. Comments may also be sent via fax to 727-522-5583. Comments will not be accepted if submitted via e-mail or Internet.

Requests for copies of the FMP, which includes an Environmental Impact Statement, an Initial Regulatory Flexibility Analysis, a Regulatory Impact Review, and a Social Impact Assessment/Fishery Impact Statement, should be sent to the South Atlantic Management Council, One Southpark Circle, Suite 306, Charleston, SC 29407-4699; Phone: 843-571-4366; fax: 843-769-4520; e-mail: safmc@safmc.net.

Requests for copies of a Supplemental Economic Analysis, Regulatory Impact Review, and Regulatory Flexibility Act Analysis, prepared by NMFS, should be sent to the Fisheries Economics Office, Southeast Regional Office, NMFS, 9721 Executive Center Drive N., St. Petersburg, FL 33702.

FOR FURTHER INFORMATION CONTACT: Dr. Steve Branstetter, 727-570-5305.

SUPPLEMENTARY INFORMATION: The Magnuson-Stevens Fishery Conservation and Management Act (Magnuson-Stevens Act), as amended by the Sustainable Fisheries Act, requires each Regional Fishery Management Council to submit any fishery management plan or amendment to NMFS for review and approval, disapproval, or partial approval. The Magnuson-Stevens Act also requires that NMFS, upon receiving a plan or amendment, publish a document in the Federal Register stating that the plan or amendment is available for public review and comment.

In developing this FMP, the SAFMC adopted a precautionary and risk-adverse approach to management. The SAFMC is concerned about rising catches in both the recreational and commercial fisheries, and with this FMP, intends to stabilize the fisheries at their current levels.

The FMP would establish the management unit for dolphin and wahoo as that portion of the stocks found in the exclusive economic zone (EEZ) along the U.S. Atlantic coast from Maine through the east coast of Florida. Several scientific studies have concurred that there is a single stock of dolphin ranging throughout the U.S. Atlantic, Gulf of Mexico and Caribbean region; a similar single stock hypothesis is also assumed for the widely dispersed, but poorly described, wahoo stock. Nevertheless, the National Standard Guidelines, at 50 CFR 600.320, suggest that more restrictive alternative management units may be justified if complementary management is planned for other geographic areas or if the unmanaged portions of the stocks are immaterial to proper management within the area under consideration for the alternate management unit, especially if designated alternate management units are specifically relevant to the FMP's objectives.

Addressing social and economic issues only occurring in the Atlantic region are the SAFMC's primary objectives in the FMP. The SAFMC is not attempting to rectify a biological problem with the stocks which would require management throughout its range; neither stock is overfished nor approaching an overfished condition because of overfishing. The SAFMC seeks to: (1) Minimize the potential for localized reductions in fish abundance, which can have economic and social impacts; (2) minimize market disruptions from large landings by all sectors; (3) minimize conflicts and competition between recreational and commercial user groups; and (4) optimize social and economic benefits by recognizing and maintaining the historical importance of the recreational fishery. Thus, the alternative management unit is appropriate.

The FMP would establish stock status criteria, including maximum sustainable yield (MSY), optimum yield, and overfishing definitions. Overfishing would be defined as the rate of harvest that compromises the stock's ability to produce MSY on a continuing basis. The status of the stocks would be monitored by designating both a maximum fishing mortality threshold to determine whether overfishing was occurring and a minimum stock size threshold to determine whether the stocks were overfished.

To maintain a healthy stock and to accomplish the social and economic goals and objectives, the FMP would establish numerous harvesting restrictions and requirements. Dealers, vessels, and operators would be required to obtain Federal permits to participate in the fishery and to report their catches and landings. The sale of dolphin and wahoo would be prohibited except by those vessels that possess appropriate state and Federal commercial permits. Harvests would be restricted in both the recreational and commercial sector. The FMP would establish daily recreational bag limits, 10 for dolphin and 2 for wahoo, and a daily 60-fish boat limit for dolphin (excluding headboats). A commercial trip limit of 3,000 pounds (1,361 kg) north of 31° N. latitude and 1,000 pounds (454 kg) south of 31° N. latitude would be established for dolphin, with a regionwide 500 pound (227 kg) trip limit for wahoo, with no transfer at sea allowed for either dolphin or wahoo. A minimum size limit for dolphin of 20 inches (50.8 cm) fork length would be established off Florida and Georgia, with no minimum size limit north of Georgia. No size limit is proposed for wahoo. The use of surface and pelagic longlines to fish for dolphin or wahoo would be prohibited within any highly migratory species time or area closure within the FMP's area of jurisdiction. A fishing year of January 1 through December 31 would be established, and allowable gears in the fishery would include hook-and-line, bandit, handlines, longlines, and spearfishing (including powerheads).

To maintain the status quo of effort in the fishery, the FMP would establish a non-binding cap in the allocation between recreational and commercial sectors. The commercial sector would be limited to 1.5 million pounds (680,400 kg) or 13 percent of the total landings, whichever is greater. The recreational sector would be limited to 87 percent of the total landings. This allocation is based on the average contribution of each sector during the 1994 through 1997 time period. Should the contributions of each sector begin to shift, the SAFMC would review the existing data and evaluate the need for additional regulations to maintain the established allocations. A framework procedure would be established to allow the implementation of certain future regulations through an abbreviated rulemaking process.

To ensure that adequate habitat is available for maintaining healthy stocks of dolphin and wahoo, the SAFMC would designate several areas as EFH, including the Gulf Stream where it occurs in the EEZ, the Charleston Gyre, and pelagic Sargassum habitat. Within these designated areas of EFH, HAPCs would be designated at specific geographic regions located between North Carolina and Florida.

A proposed rule that would implement measures outlined in the FMP has been received from the SAFMC. In accordance with the Magnuson-Stevens Act, NMFS is evaluating the proposed rule to determine whether it is consistent with the FMP, the Magnuson-Stevens Act, and other applicable law. If that determination is affirmative, NMFS will publish the proposed rule in the Federal Register for public review and comment.

Comments received by November 25, 2003 whether specifically directed to the FMP or the proposed rule, will be considered by NMFS in its decision to approve, disapprove, or partially approve the FMP. Comments received after that date will not be considered by NMFS in this decision. All comments received by NMFS on the FMP or the proposed rule during their respective comment periods will be addressed in the final rule.

Authority: 16 U.S.C. 1801 et seq.

Dated: September 22, 2003.
Bruce C. Morehead,
Acting Director, Office of Sustainable Fisheries, National Marine Fisheries Service.

[FR Doc. 03-24391 Filed 9-25-03; 8:45 am]

BILLING CODE 3510-22-S